DEPARTMENT OF ENERGY

Federal Energy Regulatory Commission

Notice of Effectiveness of Exempt Wholesale Generator Status

| Docket Nos.
SR Georgetown, LLC | EG26-42-000
Armadillo Solar Center, LLC | EG26-43-000
South River Phase II, LLC | EG26-44-000
Niyol Energy Storage, LLC | EG26-45-000
Cartwright Solar I LLC | EG26-46-000
San Jacinto Cogeneration LLC | EG26-47-000
Atlas VI, LLC | EG26-48-000
Atlas V, LLC | EG26-49-000
Cradle Solar, LLC | EG26-50-000
Goat Rock Solar, LLC | EG26-51-000
Hester Hill Solar, LLC | EG26-52-000
Pinewood Solar, LLC | EG26-53-000
Southwest Atlanta Energy Storage, LLC | EG26-54-000
Enbridge Solar (Sequoia II), LLC | EG26-55-000
Palo Duro Energy Storage, LLC | EG26-56-000
Panhandle Energy Storage, LLC | EG26-57-000
Roswell Energy Storage, LLC | EG26-58-000
Webb Road Energy Storage, LLC | EG26-59-000
Gaskell West Storage I LLC | EG26-60-000
Chaves Energy Storage, LLC | EG26-61-000
Big Cypress Energy Storage, LLC | EG26-62-000
Butler Ridge Wind, LLC | EG26-63-000
Delta Bobcat Energy Storage, LLC | EG26-64-000
Flat Fork Energy Storage, LLC | EG26-65-000
Greer Energy Storage, LLC | EG26-66-000
Heartland Divide Wind Energy, LLC | EG26-67-000
Pheasant Run Wind Energy, LLC | EG26-68-000
Tuscola Wind Energy II, LLC | EG26-69-000
Wildwood Energy Storage, LLC | EG26-70-000
Cartwright Solar II LLC | EG26-71-000
Westlands Grape, LLC | EG26-72-000
Westlands VI Project, LLC | EG26-73-000
Bob Creek Wind, LLC | EG26-74-000
Selenite Springs Solar, LLC | EG26-75-000
Cattle Drive Solar, LLC | EG26-76-000
King Mountain Energy Storage, LLC | EG26-77-000
Erath County Solar, LLC | EG26-78-000
Hackberry Creek Solar, LLC | EG26-79-000
ZSS Power, LLC | EG26-80-000
Flatland Solar Energy, LLC | EG26-81-000
North Johnson Energy Center, LLC | EG26-82-000
Zeta Solar, LLC | EG26-83-000
Alle-Catt Wind Energy LLC | EG26-84-000
Waco Solar II, LLC | EG26-85-000
Inertia Solar Project, LLC | EG26-86-000

Take notice that during the month of January 2026, the status of the above-captioned entities as Exempt Wholesale Generators became effective by operation of the Commission's regulations. 18 CFR 366.7(a) (2025).

Dated: February 4, 2026.
Carlos D. Clay,
Deputy Secretary.

[FR Doc. 2026-02553 Filed 2-9-26; 8:45 am]

BILLING CODE 6717-01-P